Executive Order 13241 of December 18, 2001

Providing an Order of Succession Within the Department of Agriculture

By the authority vested in me as President by the Constitution and the laws of the United States of America, including Subchapter III of Chapter 33 of title 5 of the United States Code, it is hereby ordered that:

Section 1. Subject to the provisions of section 3 of this Executive Order, the officers named in section 2, in the order listed, shall act as and perform the functions and duties of the office of Secretary of Agriculture (Secretary) during any period when both the Secretary and the Deputy Secretary of Agriculture (Deputy Secretary) have died, resigned, or are otherwise unable to perform the functions and duties of the office of Secretary.

Sec. 2. Order of Succession.

(a) Under Secretary of Agriculture for Farm and Foreign Agricultural Services;

(b) Under Secretary of Agriculture for Marketing and Regulatory Programs;

(c) Under Secretary of Agriculture for Rural Development;

(d) Under Secretary of Agriculture for Food, Nutrition, and Consumer Services;

(e) Under Secretary of Agriculture for Natural Resources and Environment;

(f) Under Secretary of Agriculture for Research, Education, and Economics;

(g) Under Secretary of Agriculture for Food Safety;

(h) General Counsel of the Department of Agriculture;

(i) Assistant Secretary of Agriculture for Administration; and

(j) Assistant Secretary of Agriculture for Congressional Relations.

Sec. 3. Exceptions.

(a) No individual who is serving in an office listed in section 2(a)-(j) in an acting capacity shall act as Secretary pursuant to this Executive Order.

(b) Notwithstanding the provisions of this Executive Order, the President retains discretion, to the extent permitted by Subchapter III of Chapter 33 of title 5 of the United States Code, to depart from this Executive Order in designating an acting Secretary.

Sec. 4. Executive Order 11957 of January 13, 1977, is hereby revoked.

B

THE WHITE HOUSE,

December 18, 2001.

[FR Doc. 01-31666

Filed 12-20-01; 8:45 am]

Billing code 3195-01-P